DEPARTMENT OF HEALTH AND HUMAN SERVICES

Health Resources and Services Administration

Agency Information Collection Activities: Proposed Collection: Public Comment Request; Information Collection Request Title: National Practitioner Data Bank for Adverse Information on Physicians and Other Health Care Practitioners—45 CFR Part 60 Regulations and Forms, OMB No. 0915-0126—Revision

AGENCY: Health Resources and Services Administration (HRSA), Department of Health and Human Services (HHS).

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR must be received no later than November 13, 2017.

ADDRESSES: Submit your comments to paperwork@hrsa.gov or mail to the HRSA Information Collection Clearance Officer, 14N39, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference, in compliance with Section 3506(c)(2)(A) of the Paperwork Reduction Act of 1995.

Information Collection Request Title: National Practitioner Data Bank for Adverse Information on Physicians and Other Health Care Practitioners—45 CFR part 60 Regulations and Forms, OMB No. 0915-0126—Revision.

Abstract: This is a request for a revision of OMB approval of the information collection contained in regulations found at 45 CFR part 60 governing the National Practitioner Data Bank (NPDB) and the forms to be used in registering with, reporting information to, and requesting information from the NPDB. Administrative forms are also included to aid in monitoring compliance with Federal reporting and querying requirements. Responsibility for NPDB implementation and operation resides in HRSA's Bureau of Health Workforce.

The intent of the NPDB is to improve the quality of health care by encouraging hospitals, State licensing boards, professional societies, and other entities providing health care services to identify and discipline those who engage in unprofessional behavior, and to restrict the ability of incompetent health care practitioners, providers, or suppliers to move from State to State without disclosure of previous damaging or incompetent performance. It also serves as a fraud and abuse clearinghouse for the reporting and disclosing of certain final adverse actions (excluding settlements in which no findings of liability have been made) taken against health care practitioners, providers, or suppliers by health plans, Federal agencies, and State agencies.

The reporting forms, request for information forms (query forms), and administrative forms (used to monitor compliance) are accessed, completed, and submitted to the NPDB electronically through the NPDB Web site at https://www.npdb.hrsa.gov/. All reporting and querying is performed through the secure portal of this Web site. This revision proposes changes to eliminate redundant and unnecessary forms, improve user error recovery, and improve overall data integrity. There is no change to the average burden per response. The total estimated number of respondents has increased from 5 million in 2015 to over 6 million in 2017, primarily attributable to increases in use of the “One-Time Query for an Individual” and “Continuous Query” forms. The increase in total respondents has resulted in an estimated increase of approximately 47,000 total burden hours.

Need and Proposed Use of the Information: The NPDB acts primarily as a flagging system; its principal purpose is to facilitate comprehensive review of practitioners' professional credentials and background. Information is collected from, and disseminated to, eligible entities (entities that are entitled to query and/or report to the NPDB as authorized in Title 45 CFR part 60 of the Code of Federal Regulations) on the following: (1) Medical malpractice payments, (2) licensure actions taken by Boards of Medical Examiners, (3) State licensure and certification actions, (4) Federal licensure and certification actions, (5) negative actions or findings taken by peer review organizations or private accreditation entities, (6) adverse actions taken against clinical privileges, (7) Federal or State criminal convictions related to the delivery of a health care item or service, (8) civil judgments related to the delivery of a health care item or service, (9) exclusions from participation in Federal or State health care programs, and (10) other adjudicated actions or decisions. It is intended that NPDB information should be considered with other relevant information in evaluating credentials of health care practitioners, providers, and suppliers.

Likely Respondents: Eligible entities or individuals that are entitled to query and/or report to the NPDB as authorized in regulations found at 45 CFR part 60.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours (rounded up)
Accreditation | 10 | 1 | 10 | .75 | 8
Civil Judgment | 10 | 1 | 10 | .75 | 8
Criminal Conviction (Guilty Plea or Trial) (manual) | 1,140 | 1 | 1,140 | .75 | 855
Criminal Conviction (Guilty Plea or Trial) (automated) | 688 | 1 | 688 | .0003 | 1
DEA/Federal Licensure | 698 | 1 | 698 | .75 | 524
Deferred Conviction or Pre-Trial Diversion | 54 | 1 | 54 | .75 | 41
Exclusion/Debarment (manual) | 1,624 | 1 | 1,624 | .75 | 1,218
Exclusion/Debarment (automated) | 3,180 | 1 | 3,180 | .0003 | 1
Government Administrative | 2,062 | 1 | 2,062 | .75 | 1,547
Health Plan Action | 335 | 1 | 335 | .75 | 252
Injunction | 10 | 1 | 10 | .75 | 8
Medical Malpractice Payment (manual) | 11,993 | 1 | 11,993 | .75 | 8,995
Medical Malpractice Payment (automated) | 242 | 1 | 242 | .0003 | 1
Nolo Contendere (No Contest) Plea | 85 | 1 | 85 | .75 | 64
Peer Review Organization | 10 | 1 | 10 | .75 | 8
Professional Society | 49 | 1 | 49 | .75 | 37
State Licensure (manual) | 19,160 | 1 | 19,160 | .75 | 14,370
State Licensure (automated) | 25,980 | 1 | 25,980 | .0003 | 8
Title IV Clinical Privileges Actions | 698 | 1 | 698 | .75 | 524
Correction, Revision to Action, Correction of Revision to Action, Void, Notice of Appeal (manual) | 11,114 | 1 | 11,114 | .25 | 2,779
Correction, Revision to Action, Correction of Revision to Action, Void, Notice of Appeal (automated) | 17,966 | 1 | 17,966 | .0003 | 6
One-Time Query for an Individual (manual) | 2,054,381 | 1 | 2,054,381 | .08 | 164,351
One-Time Query for an Individual (automated) | 2,813,341 | 1 | 2,813,341 | .0003 | 844
One-Time Query for an Organization (manual) | 39,695 | 1 | 39,695 | .08 | 3,176
One-Time Query for an Organization (automated) | 10,201 | 1 | 10,201 | .0003 | 4
Continuous Query (manual) | 643,860 | 1 | 643,860 | .08 | 51,509
Continuous Query (automated) | 226,838 | 1 | 226,838 | .0003 | 69
Self-Query on an Individual | 131,481 | 1 | 131,481 | .42 | 55,223
Self-Query on an Organization | 1,545 | 1 | 1,545 | .42 | 649
Entity Registration (Initial) | 1,073 | 1 | 1,073 | 1 | 1,073
Entity Registration (Renewal & Update) | 14,060 | 1 | 14,060 | .25 | 3,515
Agent Registration (Initial) | 85 | 1 | 85 | 1 | 85
Agent Registration (Renewal & Update) | 278 | 1 | 278 | .08 | 23
Entity Profile | 9,000 | 1 | 9,000 | .25 | 2,250
Licensing Board Attestation | 301 | 1 | 301 | 1 | 301
Licensing Board Data Request | 146 | 1 | 146 | 10.5 | 1,533
Reconciling Missing Actions | 7,981 | 1 | 7,981 | 0.8 | 6,385
Corrective Action Plan | 10 | 1 | 10 | .08 | 1
Missing Report Form | 29 | 1 | 29 | .08 | 3
Subject Statement and Dispute | 3,547 | 1 | 3,547 | .75 | 2,661
Request for Dispute Resolution | 99 | 1 | 99 | 8 | 792
Electronic Transfer of Funds (EFT) Authorization | 654 | 1 | 654 | .08 | 53
Authorized Agent Designation | 213 | 1 | 213 | .25 | 54
Account Discrepancy | 10 | 1 | 10 | .25 | 3
New Administrator Request | 3,016 | 1 | 3,016 | .08 | 242
Query Credit Purchase | 789 | 1 | 789 | .08 | 64
Educational Request | 10 | 1 | 10 | .08 | 1
Account Balance Transfer | 10 | 1 | 10 | .08 | 1
Total | 6,059,761 |  | 6,059,761 |  | 326,120

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Amy McNulty,
Acting Director, Division of the Executive Secretariat.

[FR Doc. 2017-19252 Filed 9-11-17; 8:45 am]

BILLING CODE 4165-15-P